DEPARTMENT OF THE INTERIOR

National Park Service

Notice of Intent to Repatriate Cultural Items: Peabody Museum of Archaeology and Ethnology, Harvard University, Cambridge, MA

AGENCY: National Park Service, Interior.

ACTION: Notice.

Notice is here given in accordance with the Native American Graves Protection and Repatriation Act (NAGPRA), 25 U.S.C. 3005, of the intent to repatriate cultural items in the possession of the Peabody Museum of Archaeology and Ethnology (Peabody Museum), Harvard University, Cambridge, MA, that meet the definition of “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

An assessment of the cultural items was made by Peabody Museum staff in consultation with representatives of the Bois Forte Band (Nett Lake) of the Minnesota Chippewa Tribe, Minnesota.

In 1941, two cultural items were donated to the Peabody Museum, as the legacy of David I. Bushnell, Jr. The two cultural items are cloth drum tabs with beaded decoration. One tab measures 20 x 16 x 1 cm and depicts a white human-like figure surrounded by floral elements. The second tab measures 19 x 15 x 0.5 cm and depicts four blue human figures (three men and one woman). Museum records indicate that Mr. Bushnell obtained the cultural items at United States Point, Basswood Lake, MN, in 1899. When Mr. Bushnell Jr. acquired the drum tabs they had been removed from a large, stationary drum, also known as a Dance Drum.

The Dance Drum was introduced to the Chippewa people, also known as the Ojibwa people, in the late nineteenth century. Consultation evidence supports that stylistic characteristics of objects reported here are consistent with traditional Chippewa art forms. Historical research and consultation with tribal representatives indicate that Dance Drums and accoutrements, including drum tabs, were specialized objects associated with ceremonial Drum Dances and may be understood as externalized, materialized sacred visions. Dance Drums and portions of Dance Drums were transferred among communal drum societies in a formalized process and not between individuals. Therefore, Mr. Bushnell's purchase of the drum tabs did not meet proper, traditional requirements for the transfer of Dance Drums and accoutrements.

United States Point lies within the traditional territory of the Bois Forte Band (Nett Lake) of the Minnesota Chippewa Tribe. Mr. Bushnell recorded the name of the Basswood Lake Dance Drum's caretaker as “Kingfisher.” Federal records, including tribal allotment lists, payment rolls, and censuses, list a “Kingfisher” and his relations as members of Bois Forte Band.

Consultation evidence indicates that the drum tabs have an ongoing historical, traditional, and cultural importance central to the Bois Forte Band (Nett Lake) of the Minnesota Chippewa Tribe, Minnesota. Cultural affiliation with the Bois Forte Band (Nett Lake) of the Minnesota Chippewa Tribe, Minnesota is established through anthropological, geographical, and historical information; museum records, including Mr. Bushnell's account of his trip to Basswood Lake and acquisition of the drum tabs; Federal documentary records; and consultation evidence.

Officials of the Peabody Museum have determined that, pursuant to 25 U.S.C. 3001 (3)(D), the cultural items have ongoing historical, traditional, and cultural importance central to the tribe and could not have been alienated, appropriated, or conveyed by any individual tribal member. Officials of the Peabody Museum also have determined that, pursuant to 25 U.S.C. 3001 (2), there is a relationship of shared group identity that can be reasonably traced between the two objects of cultural patrimony and the Bois Forte (Nett Lake) Band of the Minnesota Chippewa Tribe, Minnesota.

Representatives of any other Indian tribe that believes itself to be culturally affiliated with the objects of cultural patrimony should contact Patricia Capone, Repatriation Coordinator, Peabody Museum of Archaeology and Ethnology, Harvard University, 11 Divinity Avenue, Cambridge, MA 02138, telephone (617) 496-3702, before September 29, 2006. Repatriation of the objects of cultural patrimony to the Bois Forte (Nett Lake) Band of the Minnesota Chippewa, Minnesota may proceed after that date if no additional claimants come forward.

The Peabody Museum is responsible for notifying Bois Forte (Nett Lake) Band of the Minnesota Chippewa, Minnesota that this notice has been published.

Dated: August 14, 2006.
Sherry Hutt,
Manager, National NAGPRA Program.

[FR Doc. E6-14471 Filed 8-29-06; 8:45 am]

BILLING CODE 4312-50-S